POSTAL RATE COMMISSION

Printing Plant Tour

AGENCY: Postal Rate Commission.

ACTION: Notice of commission visit.

SUMMARY: Postal Rate Commission members and staff will tour the Thurmont, MD facility of Moore's Communications on Tuesday, September 11, 2001. The tour will entail observation of mail preparation activities.

DATES: The tour is scheduled for Tuesday, September 11, 2001, at 11:30 a.m.

FOR FURTHER INFORMATION CONTACT: Stephen L. Sharfman, General Counsel, Postal Rate Commission, Suite 300, 1333 H Street NW., Washington, DC 20268-0001, 202-789-6820.

Dated: September 7, 2001.
Steven W. Williams,
Acting Secretary.

[FR Doc. 01-22961 Filed 9-10-01; 11:01 am]

BILLING CODE 7710-FW-M